DEPARTMENT OF TRANSPORTATION

Federal Motor Carrier Safety Administration

[Docket No. FMCSA-2024-0216]

Agency Information Collection Activities; Renewal of an Approved Information Collection Request: Waiver and Exemption Requirements

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. FMCSA requests approval to renew the ICR titled “Waiver and Exemption Requirements.” The ICR estimates the burden applicants incur to comply with the reporting tasks required for requesting waivers and exemptions. A Federal Register Notice with a 60-day comment period soliciting comments on the following information collection was published December 6, 2024, and the comment period ended February 4, 2025. There were no comments received in response to the 60-day Federal Register notice.

DATES: Comments on this notice must be received on or before May 16, 2025.

ADDRESSES: Written comments and recommendations for the proposed information collection should be submitted within 30 days of publication of this notice to www.reginfo.gov/public/do/PRAMain. Find this information collection by selecting “Currently under 30-day Review—Open for Public Comments” or by using the search function.

FOR FURTHER INFORMATION CONTACT: Bernadette Walker, Driver and Carrier Operations Division, DOT, FMCSA, 1200 New Jersey Avenue SE, Washington, DC 20590-0001; 202-385-2415; Bernadette.Walker@dot.gov.

SUPPLEMENTARY INFORMATION:

Title: Waiver and Exemption Requirements.

OMB Control Number: 2126-0076.

Type of Request: Renewal, of a currently approved ICR.

Respondents: Individuals and motor carriers.

Estimated Number of Respondents: 447 per year.

Estimated Time per Response: 5 minutes to 2 hours.

Expiration Date: May 31, 2025.

Frequency of Response: On occasion, (respondents are not required to submit request for waivers or exemptions).

Estimated Total Annual Burden: 119 hours

Background

In 1998, the Federal Highway Administration, the predecessor agency of FMCSA, adopted 49 CFR part 381 as an interim final rule (IFR), establishing procedures for applying for waivers, exemptions, and pilot programs (63 FR 67600, Dec. 8, 1998). Section 4007 of the Transportation Equity Act for the 21st Century (TEA-21) amended 49 U.S.C. 31315 and 31136(e) to provide authority to the Secretary of Transportation to grant waivers and exemptions from motor carrier safety regulations. Section 4007 of TEA-21 requires that the terms and conditions for all waivers and exemptions likely achieve a level of safety equivalent to or greater than what would be achieved by complying with the safety regulations. In 2004, FMCSA adopted its IFR as final at 49 CFR part 381, consistent with section 4007 of TEA-21 (69 FR 51589, Aug. 20, 2004). The final rule also established procedures that govern how FMCSA reviews, grants, or denies requests for waivers and applications for exemptions. The final rule included requirements for publishing notice of exemption applications in the Federal Register to afford the public an opportunity for comment. There is no statutory requirement to publish Federal Register notices concerning waiver applications.

The ICR estimates the burden an individual, motor carriers, States, or State driver's licensing agency (SDLA) incurs to comply with the reporting tasks required for requesting waivers, exemptions and renewals of existing exemptions in 49 CFR part 381. The current burden estimate associated with this information collection, approved by OMB on May 23, 2022, is 97 hours. Through this ICR renewal, the Agency requests an increase in the burden hours from 97 hours to 119 hours. The increase is the result of the increase in estimated waiver and exemption applications the Agency expects to receive in the next 3 years.

On December 6, 2024, FMCSA published a 60-day notice (89 FR 97165) requesting comment on the renewal of this ICR. No comments were received in response to that notice.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Kenneth Riddle,
Acting Associate Administrator Office of Research and Registration.

[FR Doc. 2025-06408 Filed 4-15-25; 8:45 am]

BILLING CODE 4910-EX-P